ENVIRONMENTAL PROTECTION AGENCY

[FRL-9996-31-OMS]

Privacy Act of 1974; System of Records

AGENCY: Office of Mission Support, Environmental Protection Agency (EPA).

ACTION: Rescindment of a System of Records Notice.

SUMMARY: The Environmental Protection Agency (EPA) proposes to rescind the Time-Sharing Services Management System (TSSMS) system of records, EPA-43. The user and account management functions of the system were no longer needed. The TSSMS system of records is being rescinded because the application was decommissioned.

DATES: The Agency stopped using TSSMS on December 31, 2014. Persons wishing to comment on the rescindment of this system must do so by August 14, 2019.

ADDRESSES: Submit your comments, identified by Docket ID No. EPA-HQ-OEI-2018-0246, by one of the following methods:

Regulations.gov: www.regulations.gov. Follow the online instructions for submitting comments.

Email: oei.docket@epa.gov.

Fax: 202-566-1752.

Mail: OEI Docket, Environmental Protection Agency, Mailcode: 2822T, 1200 Pennsylvania Ave. NW, Washington, DC 20460.

Hand Delivery: OEI Docket, EPA/DC, WJC West Building, Room 3334, 1301 Constitution Ave. NW, Washington, DC. Such deliveries are only accepted during the Docket's normal hours of operation, and special arrangements should be made for deliveries of boxed information.

Instructions: Direct your comments to Docket ID No. EPA-HQ-OEI-2018-0246. The EPA's policy is that all comments received will be included in the public docket without change and may be made available online at www.regulations.gov, including any personal information provided, unless the comment includes information claimed to be Controlled Unclassified Information (CUI) or other information for which disclosure is restricted by statute. Do not submit information that you consider to be CUI or otherwise protected through www.regulations.gov. The www.regulations.gov website is an “anonymous access” system for EPA, which means the EPA will not know your identity or contact information unless you provide it in the body of your comment. However, over 180 federal agencies use www.regulations.gov and some may require Personally Identifiable Information (PII) and some may not. Each agency determines submission requirements within their own internal processes and standards. EPA has no requirement of personal information. If you send an email comment directly to the EPA without going through www.regulations.gov your email address will be automatically captured and included as part of the comment that is placed in the public docket and made available on the internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/epahome/dockets.htm.

Docket: All documents in the docket are listed in the www.regulations.gov index. Although listed in the index, some information is not publicly available, e.g., (CUI) or other information for which disclosure is restricted by statute. Certain other material, such as copyrighted material, will be publicly available only in hard copy. Publicly available docket materials are available either electronically in www.regulations.gov or in hard copy at the OEI Docket, EPA/DC, WJC West Building, Room 3334, 1301 Constitution Ave. NW, Washington, DC. The Public Reading Room is open from 8:30 a.m. to 4:30 p.m., Monday through Friday excluding legal holidays. The telephone number for the Public Reading Room is (202) 566-1744, and the telephone number for the OEI Docket is (202) 566-1752.

FOR FURTHER INFORMATION CONTACT: Rebecca Astin, astin.rebecca@epa.gov, 919-541-3074.

SUPPLEMENTARY INFORMATION: The Time-Sharing Services Management System was decommissioned on December 31, 2014. The user and account management functions of the system were no longer needed. The data in the system were disposed of in accordance with EPA Records Retention Schedule 1012, Item e.

SYSTEM NAME AND NUMBER:

Time Sharing Services Management System (TSSMS), EPA-43

HISTORY:

66 FR 49947—Creation of the Time-Sharing Services Management System (TSSMS) System of Records.

Dated: May 3, 2019.
Vaughn Noga,
Senior Agency Official for Privacy.

[FR Doc. 2019-14984 Filed 7-12-19; 8:45 am]

BILLING CODE 6560-50-P